DEPARTMENT OF EDUCATION

Assistive Technology Alternative Financing Program

AGENCY: Office of Special Education and Rehabilitative Services, Department of Education.

ACTION: Notice.

Catalog of Federal Domestic Assistance (CFDA) Number: 84.224D.

SUMMARY: The Secretary intends to use the slate of applicants developed for the Assistive Technology (AT) Alternative Financing Program (AFP) in fiscal year (FY) 2012 to make new grant awards in FY 2013. The Secretary takes this action because a significant number of high-quality applications remain on the grant slate and limited funding is available for new grant awards in FY 2013.

FOR FURTHER INFORMATION CONTACT: Robert Groenendaal, U.S. Department of Education, 400 Maryland Avenue SW., room 5025, Potomac Center Plaza (PCP), Washington, DC 20202-2800. Telephone: (202) 245-7393 or by email: robert.groenendaal@ed.gov.

If you use a telecommunications device for the deaf (TDD) or a text telephone (TTY), call the Federal Relay Service (FRS), toll free, at 1-800-877-8339.

SUPPLEMENTARY INFORMATION:

Background

On August 8, 2012, we published a notice in the Federal Register (77 FR 47375) inviting applications for new awards for FY 2012 under the AT AFP. The notice indicated that the absolute and competitive preference priorities in the notice would only apply to the FY 2012 grant competition because authorization for this program and its funding was provided for a single year in the FY 2012 appropriations act. However, in FY 2013, this authorization and funding was retained in the Consolidated and Further Continuing Appropriations Act, 2013 (Pub. L. 113-006).

In FY 2012, we received 15 applications for AT AFP grants and made three grant awards with the funds available. Given the quality of the applications that did not receive funding and the limited funding available for new awards in FY 2013, we intend to select grantees in FY 2013 from the existing slate of applicants.

Program Authority: Consolidated and Further Continuing Appropriations Act, 2013 (Pub. L. 113-006).

Accessible Format: Individuals with disabilities can obtain this document in an accessible format (e.g., braille, large print, audiotape, or compact disc) by contacting the Grants and Contracts Services Team, U.S. Department of Education, 400 Maryland Avenue SW., room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 21, 2013.
Michael K. Yudin,
Delegated the authority to perform the functions and the duties of the Assistant Secretary for Special Education and Rehabilitative Services.

[FR Doc. 2013-12495 Filed 5-23-13; 8:45 am]

BILLING CODE 4000-01-P